DEPARTMENT OF DEFENSE

Office of the Secretary

[Docket ID: DOD-2018-OS-0031]

Submission for OMB Review; Comment Request

AGENCY: Office of the Under Secretary of Defense for Personnel and Readiness, DoD.

ACTION: 30-Day information collection notice.

SUMMARY: The Department of Defense has submitted to OMB for clearance the following proposal for collection of information under the provisions of the Paperwork Reduction Act.

DATES: Consideration will be given to all comments received by September 17, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Report of Medical History; DD Forms 2807-1 and 2807-2; OMB Control Number 0704-0413.

Type of Request: Reinstatement without change.

Number of Respondents: 773,003.

Responses per Respondent: 1.

Annual Responses: 773,003.

Average Burden per Response: 10 minutes.

Annual Burden Hours: 128,834.

Needs and Uses: The information collection requirement is necessary per Title 10 U.S.C. Chapter 31: Sections 504 and 505, and Chapter 33, Section 532, which requires applicants to meet accession medical standards prior to enlistment into the Armed Forces, including the Coast Guard. If applicants' medical history reveals a medical condition that does not meet the accession medical standards, they are medically disqualified for military entrance. These forms also will be used by all service members not only in their initial medical examination but also for periodic medical examinations.

Affected Public: Individuals or Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: August 14, 2018.
Shelly E. Finke,
Alternate OSD Federal Register Liaison Officer, Department of Defense.

[FR Doc. 2018-17802 Filed 8-16-18; 8:45 am]

BILLING CODE 5001-06-P